NATIONAL SCIENCE FOUNDATION

OFFICE OF SCIENCE AND TECHNOLOGY POLICY

Request for Information (RFI) on Implementing Initial Findings and Recommendations of the National Artificial Intelligence Research Resource Task Force

AGENCY: White House Office of Science and Technology Policy and National Science Foundation.

ACTION: Request for information (RFI).

SUMMARY: The Office of Science and Technology Policy and the National Science Foundation are seeking comment on the initial findings and recommendations contained in the interim report of the National Artificial Intelligence Research Resource (NAIRR) Task Force (“Task Force”) and particularly on potential approaches to implement those recommendations. The Task Force has been directed by Congress to develop an implementation roadmap for a shared research infrastructure that would provide artificial intelligence (AI) researchers and students with access to computational resources, high-quality data, training tools, and user support. Comments in response to this RFI will inform the development of the Task Force's final report, which is expected to be released in December 2022.

DATES: To be considered, responses and comments must be received no later than 11:59 p.m. EDT on June 30, 2022.

ADDRESSES: Comments submitted in response to this notice may be sent by any of the following methods:

• Email: NAIRR-responses@nitrd.gov. Email submissions should be machine-readable and not be copy-protected. Submissions should include “RFI Response: National AI Research Resource Interim Report” in the subject line of the message.

• Mail: Attn: Jeri Hessman, National Coordination Office for Networking and Information Technology Research and Development, 2415 Eisenhower Avenue, Alexandria, VA 22314, USA.

Instructions: Response to this RFI is voluntary. Each individual or institution is requested to submit only one response. Submissions must be in 11 point or larger font, include a page number on each page, and not exceed 10 pages (exclusive of cover page). Responses should include the name of the person(s) or organization(s) filing the comment. Responses should refer to the particular topic letter(s), as listed below, to which the comments pertain.

Comments containing references, studies, research, and other empirical data that are not widely published should include copies or electronic links of the referenced materials; these materials, as well as a list of references, do not count toward the 10-page limit. No proprietary information, copyrighted information, or personally identifiable information (aside from that requested above) should be submitted in response to this RFI. Comments submitted in response to this RFI may be posted online at https://www.ai.gov/nairrtf.

In accordance with FAR 15.202(3), responses to this notice are not offers and cannot be accepted by the government to form a binding contract. Responders are solely responsible for all expenses associated with response preparation.

FOR FURTHER INFORMATION CONTACT: Jeri Hessman and NAIRR-responses@nitrd.gov, (202) 459-9683. Individuals who use a telecommunications device for the deaf (TDD) may call the Federal Information Relay Service (FIRS) at 1-800-877-8339 between 8 a.m. and 8 p.m. EDT on Monday through Friday.

SUPPLEMENTARY INFORMATION:

Background

Congress directed the National Science Foundation (NSF), in coordination with the White House Office of Science and Technology Policy (OSTP), to establish the NAIRR Task Force in the William M. (Mac) Thornberry National Defense Authorization Act for Fiscal Year 2021, 15 U.S.C. 9415, and in accordance with the provisions of the Federal Advisory Committee Act. The mandate of the Task Force is to investigate the feasibility and advisability of establishing and sustaining a NAIRR, and to propose a roadmap detailing how such a resource should be established and sustained.

The Task Force was launched on June 10, 2021, as a Federal Advisory Committee co-chaired by NSF and OSTP and composed of representatives from the U.S. Government, academia, and the private sector. Its members' expertise spans foundational, use-inspired, and trustworthy AI R&D, as well as research cyberinfrastructure including data and data privacy.

Between its launch date and the time of publication of its interim report, the Task Force convened seven virtual public meetings to discuss and deliberate on key NAIRR uses, potential impacts, system requirements, and design elements. At these meetings, the Task Force consulted 39 expert briefers and panelists to augment the members' own expertise, and to ensure that a diversity of perspectives and experiences were considered in Task Force discussions and deliberations. The Task Force also reviewed 84 public responses to a July 2021 RFI regarding key aspects of the NAIRR. More information on the Task Force members, past meetings, prior RFI responses, and upcoming meetings is available at https://AI.gov/nairrtf.

The Task Force's interim report, published on May 25, 2022, provides a general vision for the NAIRR along with a preliminary set of findings and recommendations regarding the NAIRR architecture, resources, capabilities, and users. Moving forward, the Task Force will refine its findings and recommendations for the design of the NAIRR and deliberate on remaining open questions. In doing so, the Task Force will develop a detailed roadmap and implementation plan for the NAIRR. The Task Force's final report is anticipated to be released in December 2022.

This RFI seeks input from a broad array of stakeholders on the topics set forth below. Comments from the public will be used to inform the Task Force's consideration of options and development of an implementation roadmap as part of the Task Force's final report.

Responders are invited to provide feedback on the findings and recommendations put forward in the Task Force's interim report, and particularly input on how the recommendations could be responsibly and effectively implemented. Responses may address the following areas [please note the topic letter(s) to which comments pertain]:

a. Vision for the NAIRR. Including strategic goals and objectives, composition, and user base. (Chapter 2 of the report)

b. Establishment and sustainment of the NAIRR. Including agency roles, resource ownership and administration, governance and oversight, resource allocation and sustainment, and performance indicators and metrics. (Chapter 3 of the report)

c. NAIRR resource elements and capabilities. Including data, government datasets, compute resources, testbeds, user interface, and educational tools and services. (Chapter 4 of the report)

d. System security and user access controls. (Chapter 5 of the report)

e. Privacy, civil rights, and civil liberties requirements. (Chapter 6 of the report)

f. Ideas for developing a roadmap to establish and build out the NAIRR in a phased approach, and appropriate milestones for implementing the NAIRR. Including data sets, use cases, and capabilities that should be prioritized in the early stages of establishment of the resource.

g. Other areas relevant to the development of the NAIRR implementation plan.

To the extent possible, responders are asked to include alternatives for consideration when not in agreement with the initial findings and/or recommendations articulated by the Task Force. When providing input on possible implementation steps, responses should include, where possible, descriptions of best practices or existing models that the Task Force could consider in the development of an implementation roadmap.

Responders interested in providing additional information to the Task Force are invited to attend a public listening session on June 23, 2022, from 1:00 p.m. to 3:00 p.m. EDT. Further details can be found through the Federal Register Notice entitled Public Listening Session on Implementing Initial Findings and Recommendations of the National Artificial Intelligence Research Resource Task Force.

Submitted by the National Science Foundation and the White House Office of Science and Technology Policy on May 19, 2022.

Suzanne H. Plimpton,
Reports Clearance Officer, National Science Foundation.
Stacy Murphy,
Operations Manager White House Office of Science and Technology Policy.

[FR Doc. 2022-11223 Filed 5-24-22; 8:45 am]

BILLING CODE 7555-01-P